DEPARTMENT OF ENERGY

Federal Energy Regulatory Commission

[Project No. 12829-001; Project No. 12861-001; Project No. 12921-001; Project No. 12930-001; Project No. 12938-001; Project No. 12915-001; Project No. 12912-001]

Notice of Dispute Resolution Panel Meeting and Technical Conference

March 4, 2010.

Free Flow Power Corporation | Project No. 12829-001
FFP Project 28, LLC | Project No. 12861-001
FFP Project 32, LLC | Project No. 12921-001
FFP Project 41, LLC | Project No. 12930-001
FFP Project 42, LLC | Project No. 12938-001
FFP Project 54, LLC | Project No. 12915-001
FFP Project 57, LLC | Project No. 12912-001

On March 4, 2010, Commission staff, in response to the filing of a notice of study dispute by the U.S. Department of Interior, Fish and Wildlife Service, on February 12, 2010, convened a single three-person Dispute Resolution Panel (Panel) pursuant to 18 CFR 5.14(d).

The Panel will hold a technical conference at the time and place noted below. The technical conference will address a study dispute pertaining to five issues in the Fish Entrainment, Population Sampling, Habitat Use, and Movement Study. The issues in dispute are: (1) Species of fish to be used in controlled entrainment testing; (2) methodology for controlled testing of entrainment injury and mortality; (3) riverine fish movement, behavior, and habitat use; (4) fish population effects; and (5) entrainment effects on fish eggs and larvae, aquatic macroinvertebrates, and zooplankton.

The purpose of the technical session is for the disputing agencies, applicants, and Commission to provide the Panel with additional information necessary to evaluate the disputed study. All local, state, and federal agencies, Indian tribes, and other interested parties are invited to attend the meeting as observers. The Panel may also request information or clarification on written submissions as necessary to understand the matters in dispute. The Panel will limit all input that it receives to the specific studies or information in dispute and will focus on the applicability of such studies or information to the study criteria stipulated in 18 CFR 5.9(b). If the number of participants wishing to speak creates time constraints, the Panel may, at their discretion, limit the speaking time for each participant.

Technical Conference

Date: Tuesday, March 16, 2010.

Time: 9 a.m.-5 p.m. (CST; GMT-6:00).

Place: Classroom/Meeting Room, Corps of Engineers National Great Rivers Museum, #2 Locks and Dam Way, Alton, Illinois.

Kimberly D. Bose,
Secretary.

[FR Doc. 2010-5209 Filed 3-10-10; 8:45 am]

BILLING CODE 6717-01-P